DEPARTMENT OF ENERGY

Federal Energy Regulatory Commission

[Docket No. ER04-907-000, et al.]

Avista Corporation, et al.; Electric Rate and Corporate Filings

June 8, 2004.

The following filings have been made with the Commission. The filings are listed in ascending order within each docket classification.

1. Avista Corporation

[Docket No. ER04-907-000]

Take notice that on June 7, 2004, Avista Corporation (Avista) tendered for filing Original Service Agreement No. 315, a non-conforming Service Agreement under Avista's FERC Electric Tariff Original Volume No. 10 between Avista and the Western Area Power Administration—Upper Great Plains Region (Service Agreement). Avista requests an effective date of June 1, 2004.

Comment Date: June 28, 2004.

2. The Detroit Edison Company, International Transmission Company, and the Midwest Independent Transmission System Operator, Inc.

[Docket No. ER04-910-000]

Take notice that on June 4, 2004, The Detroit Edison Company, (Detroit Edison) International Transmission Company (International Transmission) and the Midwest Independent Transmission System Operator, Inc., (the Midwest ISO) (collectively the Parties) an executed Must-Run Agreement and accompanying exhibits by and among The Detroit Edison Company, International Transmission Company and the Midwest Independent Transmission System Operator, Inc., which sets forth the rates, terms and conditions under which The Detroit Edison Company will provide reliability must-run services to International Transmission Company's service territory. The Parties requested a waiver of the Commission's regulations to permit an effective date of June 7, 2004.

The Parties states that copies of this filing, with attachments have been electronically served on all Midwest ISO Members, Member representatives of Transmission Owners and Non-Transmission Owners, the Midwest ISO Advisory Committee participants, as well as all state commissions within the region. In addition, the Parties states that the filing has been electronically posted on the Midwest ISO's Web site at http://www.midwestiso.org under the heading “Filings to FERC” for other interested parties in this matter. The Midwest ISO will provide hard copies to any interested parties upon request.

Comment Date: June 25, 2004.

3. PPL University Park, LLC

[Docket No. ER04-911-000]

Take notice that on June 4, 2004, PPL University Park, LLC (PPL University Park) tendered for filing a rate schedule pursuant to which it specifies its revenue requirement for providing cost-based Reactive Supply and Voltage Control from Generation Sources Service (Reactive Power). PPL University Park states that it will provide Reactive Power from its natural gas-fueled electric generating facility located in University Park, Illinois in the control area administered by the PJM Interconnection, L.L.C. PPL University Park requests waiver of the notice requirements of 18 CFR 35.3, to the extent necessary, to permit an effective date for the proposed Rate Schedule FERC No. 2 of July 1, 2004.

Comment Date: June 25, 2004.

4. Centaurus Energy Master Fund, L.P.

[Docket No. ER04-913-000]

Take notice that on June 4, 2004, Centaurus Energy Master Fund, L.P. (Centaurus) petitioned the Commission for acceptance of Centaurus' FERC Electric Tariff Original Volume No. 1; the granting of certain blanket approvals, including the authority to sell electricity at market-based rates; and the waiver of certain Commission regulations. Centaurus states that it intends to engage in wholesale electric power and energy purchases and sales as a marketer.

Comment Date: June 25, 2004.

5. Total Gas & Electricity, Inc.

[Docket Nos. ER04-914-000 and ER04-836-000]

Take notice that on June 4, 2004, Total Gas & Electricity, Inc. (TG&E) (f/k/a Total Energy, Inc.) filed a notice of cancellation of its market-based rate electric tariff, Rate Schedule FERC No. 1, effective April 1, 2004. TG&E also requested that the notice of succession filed on May 12, 2004, in Docket No. ER04-836-000 be withdrawn.

Comment Date: June 25, 2004.

6. Total Gas & Electric (PA), Inc.

[Docket Nos. ER04-915-000 and ER04-837-000]

Take notice that on June 4, 2004, Total Gas & Electricity (PA), Inc. (TG&E PA) filed a notice of cancellation of its market-based rate electric tariff, Rate Schedule FERC No. 1, effective April 1, 2004. TG&E PA also requested that the notice of succession filed on May 12, 2004, in Docket No. ER04-837-000 be withdrawn.

Comment Date: June 25, 2004.

7. Duke Energy Corporation

[Docket No. ER04-916-000]

Take notice that on June 4, 2004, Duke Energy Corporation, on behalf of Duke Electric Transmission, (collectively, Duke) tendered for filing a revised Network Integration Service Agreements (NITSA) with New Horizon Electric Cooperative, Inc. Duke requests an effective date for the revised NITSA of June 1, 2004.

Comment Date: June 25, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie Salas,
Secretary.

[FR Doc. E4-1377 Filed 6-17-04; 8:45 am]

BILLING CODE 6717-01-P